DEPARTMENT OF THE TREASURY

Submission for OMB Review; Comment Request

July 30, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 5, 2001 to be assured of consideration.

Internal Revenue Service (IRS)

OMB Number: 1545-0923.

Regulation Project Number: REG-209274-85 NPRM and Temporary.

Type of Review: Extension.

Title: Tax Exempt Entity Leasing.

Description: These regulations provide guidance to persons executing lease agreements involving tax-exempt entities under section 168(h) of the Internal Revenue Code. The regulations are necessary to implement congressionally enacted legislation and elections for certain previously tax-exempt organizations and certain tax-exempt controlled entities.

Respondents: Not-for-profit institutions, State, Local or Tribal Government.

Estimated Number of Respondents: 4,000.

Estimated Burden Hours Per Respondent: 30 minutes.

Frequency of Response: On occasion.

Estimated Total Reporting Burden: 2,000 hours.

OMB Number: 1545-1614.

Regulation Project Number: REG-106177-97 NPRM.

Type of Review: Extension.

Title: Qualified State Tuition Programs.

Description: Respondents are states that establish and maintain qualified state tuition programs. Respondents include distributees who receive benefits under the program are qualified and that distributions are used for qualified educational expenses.

Respondents: Individuals or households, State, Local or Tribal Government.

Estimated Number of Respondents/Recordkeepers: 20,051.

Estimated Burden Hours Per Respondent/Recordkeeper: 35 hours, 10 minutes.

Frequency of Response: On occasion.

Estimated Total Reporting/Recordkeeping Burden: 705,000 hours.

OMB Number: 1545-1731.

Revenue Procedure Number: Revenue Procedure 2001-37.

Type of Review: Extension.

Title: Extraterritorial Income Exclusion Elections.

Description: This revenue procedure provides guidance for implementing the elections (and revocation of such elections) established under the “Foreign Sales Corporation (FSC) Repeal and Extraterritorial Income Exclusion Act of 2000.”

Respondents: Business or other for-profit.

Estimated Number of Respondents: 56.

Estimated Burden Hours Per Respondent: 20 minutes.

Frequency of Response: Annually, Other (once).

Estimated Total Reporting Burden: 19 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-19520 Filed 8-3-01; 8:45 am]

BILLING CODE 4830-01-P